DEPARTMENT OF COMMERCE

International Trade Administration

[A-580-895]

Low Melt Polyester Staple Fiber From the Republic of Korea: Notice of Final Results of Antidumping Duty Changed Circumstances Review

AGENCY: Enforcement and Compliance, International Trade Administration, Department of Commerce.

SUMMARY: On July 12, 2019, the Department of Commerce (Commerce) initiated, and published the preliminary results of, the changed circumstances review (CCR) of the antidumping duty (AD) order on low melt polyester staple fiber (low melt PSF) from the Republic of Korea (Korea). For these final results, Commerce continues to find that Toray Advanced Materials Korea, Inc. (TAK) is the successor-in-interest to Toray Chemical Korea, Inc. (TCK).

DATES: Applicable August 28, 2019.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On May 23, 2019, TAK requested that, pursuant to section 751(b) of the Tariff Act of 1930, as amended (the Act), and 19 CFR 351.216(b), Commerce conduct a CCR of the AD order on low melt PSF from Korea.¹ In its request, TAK argued that it is the successor-in-interest to its wholly-owned subsidiary TCK and, accordingly, Commerce should assign it the cash deposit rate established for TCK.² TAK stated that, in April 2019, TAK merged with TCK and, as a result of the merger, TAK assumed all of TCK's assets, rights, and liabilities.³

¹ See TAK's Letter, “Low Melt Polyester Staple Fiber from the Republic of Korea: Changed Circumstances Review Request,” dated May 23, 2019, at 1-2.

² Id.

³ Id. at 2.

On July 12, 2019, Commerce initiated this CCR and concurrently published the notice of preliminary results, determining that TAK is the successor-in-interest to TCK.⁴ In the Initiation and Preliminary Results, we provided all interested parties an opportunity to comment and to request a public hearing regarding our preliminary finding that TAK is the successor-in-interest to TCK.⁵ We received no comments or requests for a public hearing from interested parties within the time period set forth in the Initiation and Preliminary Results.⁶

⁴ See Notice of Initiation and Preliminary Results of Antidumping Duty Changed Circumstances Review: Low Melt Polyester Staple Fiber from the Republic of Korea, 84 FR 33235 (July 12, 2019) (Initiation and Preliminary Results).

⁵ Id., 84 FR at 33236.

⁶ Id.

Scope of the AD Order

The merchandise subject to this order is synthetic staple fibers, not carded or combed, specifically bi-component polyester fibers having a polyester fiber component that melts at a lower temperature than the other polyester fiber component (low melt PSF). The scope includes bi-component polyester staple fibers of any denier or cut length. The subject merchandise may be coated, usually with a finish or dye, or not coated.

Low melt PSF is classifiable under the Harmonized Tariff Schedule of the United States (HTSUS) subheading 5503.20.0015. Although the HTSUS subheading is provided for convenience and customs purposes, the written description of the scope of the order is dispositive.

Final Results of Changed Circumstances Review

For the reasons stated in the Initiation and Preliminary Results, and because we received no comments from interested parties to the contrary, Commerce continues to find that TAK is the successor-in-interest to TCK. As a result of this determination and consistent with established practice, we find that TAK should receive the cash deposit rate assigned to TCK. Consequently, Commerce will instruct U.S. Customs and Border Protection to suspend entries of subject merchandise produced or exported by TAK at TCK's current cash deposit rate of 16.27 percent.⁷ This cash deposit requirement will be effective on the publication date of our final results and shall remain in effect until further notice.

⁷ See Low Melt Polyester Staple Fiber from the Republic of Korea and Taiwan: Antidumping Duty Orders, 83 FR 40752 (August 16, 2018).

Notification to Interested Parties

We are issuing this determination and publishing these final results and notice in accordance with sections 751(b)(1) and 777(i)(1) and (2) of the Act and 19 CFR 351.216(e), 351.221(b), and 351.221(c)(3).

Dated: August 22, 2019.
Christian Marsh,
Deputy Assistant Secretary for Enforcement and Compliance.

[FR Doc. 2019-18555 Filed 8-27-19; 8:45 am]

BILLING CODE 3510-DS-P